ENVIRONMENTAL PROTECTION AGENCY

[EPA-HQ-OECA-2012-0527; FRL-9994-31-OMS]

Information Collection Request Submitted to OMB for Review and Approval; Comment Request; NESHAP for Paints and Allied Products Manufacturing Area Source Category (Renewal)

AGENCY: Environmental Protection Agency (EPA).

ACTION: Notice.

SUMMARY: The Environmental Protection Agency (EPA) has submitted an information collection request (ICR), NESHAP for Paints and Allied Products Manufacturing Area Source Category (EPA ICR Number 2348.05, OMB Control Number 2060-0633), to the Office of Management and Budget (OMB), for review and approval in accordance with the Paperwork Reduction Act. This is a proposed extension of the ICR, which is currently approved through May 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 3, 2019.

ADDRESSES: Submit your comments, referencing Docket ID Number EPA-HQ-OECA-2012-0527 to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Paints and Allied Products Manufacturing Area Source Category (40 CFR part 63) were proposed on June 1, 2009, and promulgated on December 3, 2009. These regulations apply to existing facilities and new facilities that are an area source of hazardous air pollutants (HAP) emissions and that either use or have the potential to emit urban air toxics (i.e., benzene; methylene chloride; cadmium, chromium, lead, and nickel compounds). New facilities include those that commenced construction or reconstruction after the date of proposal. This information is being collected to assure compliance with 40 CFR part 63, subpart CCCCCCC.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Paints and allied products manufacturing facilities.

Respondent's obligation to respond: Mandatory (40 CFR part 63, subpart CCCCCCC)

Estimated number of respondents: 219 (total).

Frequency of response: Initially and semiannually.

Total estimated burden: 500 hours (per year). Burden is defined at 5 CFR 1320.3(b).

Total estimated cost: $131,000 (per year), which includes $0 in annualized capital/startup and/or operation & maintenance costs.

Changes in the Estimates: There is an adjustment decrease in the total estimated burden as currently identified in the OMB Inventory of Approved Burdens; this decrease is not due to any program changes. The decrease in burden is due to more accurate estimates of existing sources based on information gathered by industry. Specifically, the American Coatings Association (ACA) provided that the previous estimate of 2,190 sources is based on the 2009 proposed rule, which relied on 2002 U.S. Census data to identify 2,510 paints and allied products manufacturing facilities, of which 2,190 were further estimated to be small business and assumed to be area sources of HAP. However, the final rule made clarifications on the applicability of the NESHAP, including that final rule did not include retail and commercial paints and allied products operations which add and mix pigments to pre-manufactured products per customer specifications; that the rule does not apply to activities conducted by end users of coating products in preparation for application; and that the Generally Available Control Technology (GACT) requirements only apply when the target HAP are being processed, used, or generated (rather than at all times regardless of whether any of the target HAP was or was not being used). The ACA indicated that because the final rule only applies to those facilities that use the HAPs of concern (benzene, methylene chloride, or compounds of cadmium, chromium, lead, and/or nickel, in amounts greater than or equal to 0.1 percent by weight), the number of affected facilities is much smaller than what was initially proposed. The ACA stated that only 10% of paint and allied products facilities (or 219 of the 2,190 small sources identified in the 2009 final rule and prior ICR) would use the HAPs of concern (benzene, methylene chloride, or compounds of cadmium, chromium, lead, and/or nickel, in amounts greater than or equal to 0.1 percent by weight). Therefore, this ICR adjusts the total number of respondents to 219. The decrease in the number of respondents also results in a decrease in responses.

Courtney Kerwin,
Director, Regulatory Support Division.

[FR Doc. 2019-11275 Filed 5-31-19; 8:45 am]

BILLING CODE 6560-50-P